ENVIRONMENTAL PROTECTION AGENCY

40 CFR Parts 239 and 257

[FRL-7787-4]

Adequacy of Indiana Solid Waste Landfill Permit Programs Under RCRA Subtitle D

AGENCY: Environmental Protection Agency (EPA).

ACTION: Proposed rule.

SUMMARY: This document proposes to approve Indiana's solid waste regulation, which ensures that hazardous waste from conditionally exempt small quantity generators (CESQGs) will be disposed of only in accordance with EPA regulations. In the “Rules and Regulations” section of this Federal Register, EPA is approving Indiana's regulations by a direct final rule. EPA did not make a proposal prior to the direct final rule because we believe this action is not controversial and do not expect comments that oppose it. We have explained the reasons for this approval in the preamble to the direct final rule. Unless we receive written comments that oppose this approval during the comment period, the direct final rule will become effective on the date it establishes, and we will not take further action on this proposal. If we receive comments that oppose this action, we will withdraw the direct final rule, and it will not take effect. We will then respond to public comments in a later final rule based on this proposal. You will not have another opportunity for comment. If you want to comment on this action, you must do so at this time.

DATES: Send your written comments by August 16, 2004.

ADDRESSES: Written comments should be sent to Susan Mooney, Waste Management Branch (Mail code: DW-8J), U.S. EPA Region 5, 77 West Jackson Boulevard, Chicago, IL 60604, telephone: 312/886-3585. Comments may also be submitted electronically to: mooney.susan@epa.gov or by facsimile at (312) 353-4788. You may examine copies of the relevant portions of Indiana's regulations during normal business hours at EPA Region 5.

FOR FURTHER INFORMATION CONTACT: Susan Mooney, Waste Management Branch (Mail code: DW-8J), U.S. EPA Region 5, 77 West Jackson Boulevard, Chicago, IL 60604, telephone: (312) 886-3585, e-mail: mooney.susan@epa.gov.

SUPPLEMENTARY INFORMATION: For additional information, please see the Direct Final Rule published in the “Rules and Regulations” section of today's Federal Register.

Dated: June 16, 2004.
Bharat Mathur,
Acting Regional Administrator, US EPA, Region 5.

[FR Doc. 04-16205 Filed 7-15-04; 8:45 am]

BILLING CODE 6560-50-P